DEPARTMENT OF COMMERCE

International Trade Administration

Meeting of the Manufacturing Council

AGENCY: International Trade Administration, U.S. Department of Commerce.

ACTION: Notice of an Open Meeting.

SUMMARY: The Manufacturing Council will hold its final meeting of its term on Wednesday, October 15, 2014, to discuss and deliberate on final recommendations addressing: workforce development best practices; strategies to address misconceptions of manufacturing careers; innovation, research and development in manufacturing; and export growth opportunities for U.S. manufacturers. Additionally, the Council will receive updates from representatives of the U.S. government on the manufacturing initiatives taking place across federal agencies. A final agenda will be available on the Council's Web site one week prior to the meeting. The Council advises the Secretary of Commerce on government programs and policies that affect U.S. manufacturing and provides a means of ensuring regular contact between the U.S. Government and the manufacturing sector.

DATES: October 15, 2014, 9:00 a.m.-12:00 p.m. Eastern Daylight Time (EDT).

ADDRESSES: The meeting will be held at the Department of Commerce, 1401 Constitution Avenue NW., Washington, DC 20230. Due to building security, all attendees must pre-register. This meeting will be physically accessible to people with disabilities. Seating is limited and will be on a first come, first served basis. Pre-registration and requests for sign language interpretation or other auxiliary aids should be submitted no later than Monday, October 6, 2014, to the Manufacturing Council, Room 4043, 1401 Constitution Avenue NW., Washington, DC 20230, telephone 202-482-4501, mc@trade.gov. Last minute requests will be accepted, but may be impossible to fill.

FOR FURTHER INFORMATION CONTACT: Office of Advisory Committees and Industry Outreach, the Manufacturing Council, Room 4043, 1401 Constitution Avenue NW., Washington, DC 20230, telephone: 202-482-4501, email: mc@trade.gov.

SUPPLEMENTARY INFORMATION: A limited amount of time, from 11:45 a.m.-12:00 p.m., will be made available for pertinent brief oral comments from members of the public attending the meeting. To accommodate as many speakers as possible, the time for public comments will be limited to five minutes per person. Individuals wishing to reserve speaking time during the meeting must contact the Office of Advisory Committees and Industry Outreach and submit a brief statement of the general nature of the comments, as well as the name and address of the proposed speaker, by 5:00 p.m. ET on Monday, October 6, 2014. If the number of registrants requesting to make statements is greater than can be reasonably accommodated during the meeting, the International Trade Administration may conduct a lottery to determine the speakers. Speakers are requested to bring at least 30 copies of their oral comments for distribution to the members of the Manufacturing Council and to the public at the meeting. Any member of the public may submit pertinent written comments concerning the Manufacturing Council's affairs at any time before or after the meeting. Comments may be submitted to the Office of Advisory Committees and Industry Outreach, the Manufacturing Council, Room 4043, 1401 Constitution Avenue NW., Washington, DC 20230, telephone: 202-482-4501, email: mc@trade.gov. To be considered during the meeting, written comments must be received by 5:00 p.m. EDT on Monday, October 6, 2014, to ensure transmission to the Manufacturing Council prior to the meeting. Comments received after that date will be distributed to the members but may not be considered at the meeting.

Copies of Council meeting minutes will be available within 90 days of the meeting.

Dated: September 22, 2014.
Jennifer Pilat,
Executive Secretary, The Manufacturing Council.

[FR Doc. 2014-22825 Filed 9-24-14; 8:45 am]

BILLING CODE 3510-DR-P